ENVIRONMENTAL PROTECTION AGENCY

[OPP-2004-0337; FRL-7683-8]

Ferbam; Notice of Receipt of Requests for Amendments to Delete Uses in Certain Pesticide Registrations and to Cancel Certain Product Registrations

AGENCY: Environmental Protection Agency (EPA).

ACTION: Notice.

SUMMARY: In accordance with section 6(f)(1) of the Federal Insecticide, Fungicide and Rodenticide Act (FIFRA), as amended, EPA is issuing a notice of receipt of request for amendments by registrants to delete uses in certain registrations and to cancel certain product registrations containing the pesticide ferbam. Section 6(f)(1) of FIFRA provides that a registrant of a pesticide product may at any time request that any of its pesticide registrations be cancelled or amended to terminate one or more uses. FIFRA further provides that, before acting on the request, EPA must publish a notice of receipt of any request in the Federal Register.

DATES: The deletions are effective on January 11, 2005, unless the Agency receives a written withdrawal request on or before January 11, 2005, or unless the Agency receives substantive comments within the comment period that would merit its further review of these requests. The Agency will consider withdrawal requests postmarked no later than January 11, 2005.

ADDRESSES: Written withdrawal requests may be submitted electronically, by mail, or through hand delivery/courier. Follow the detailed instructions as provided in Unit I. of the SUPPLEMENTARY INFORMATION. To ensure proper receipt by EPA, it is imperative that you identify docket identification (ID) number OPP-2004-0337 in the subject line on the first page of your response.

FOR FURTHER INFORMATION CONTACT: Amaris Johnson, Office of Pesticide Programs (7508C), Environmental Protection Agency, 1200 Pennsylvania Ave., NW., Washington, DC 20460-0001; telephone number: (703) 305-9542; e-mail address: johnson.amaris@epa.gov.

SUPPLEMENTARY INFORMATION:

I. General Information

A. Does this Action Apply to Me?

This action is directed to the public in general. Although, this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket ID number OPP-2004-0337. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although, not all docket materials may be available electronically, you may still access any of the publicly available docket materials through the docket facility identified in Unit I.B.1. Once in the system, select “search,” then key in the appropriate docket ID number.

C. How and to Whom Do I Submit Written Withdrawal Requests?

1. Electronically—i. E-mail your written withdrawal requests to: Amaris Johnson at johnson.amaris@epa.gov, Attention: Docket ID number OPP-2004-0337.

ii. Disk or CD ROM. Written withdrawal requests on disk or CD ROM may be mailed to the address in Unit I.C.2. or delivered by hand or courier to the address in Unit I.C.3., Attention: Docket ID number OPP-2004-0337. These electronic submissions will be accepted in WordPerfect or ASCII file format. Avoid the use of special characters and any form of encryption.

2. By mail. Send your written withdrawal requests to: Amaris Johnson, Office of Pesticide Programs (7508C), Environmental Protection Agency, 1200 Pennsylvania Ave., NW., Washington, DC 20460-0001, Attention: Docket ID number OPP-2004-0337.

3. By hand delivery or courier. Deliver your written withdrawal requests to: Public Information and Records Integrity Branch (PIRIB), Office of Pesticide Programs (OPP), Environmental Protection Agency, Rm. 119, Crystal Mall #2, 1801 S. Bell St., Arlington, VA 22202, Attention: Docket ID number OPP-2004-0337. Such deliveries are only accepted during the docket's normal hours of operation as identified in Unit I.B.1.

II. What Action is the Agency Taking?

This notice announces receipt by the Agency of applications from registrants to delete uses in certain pesticide registrations and to cancel certain pesticide registrations. The use deletions are listed in Table 1 of this unit by registration number, product name/active ingredient, and specific uses deleted. Table 2 of this unit lists the cancellation of pesticide registrations by EPA registration number, product name, and active ingredient. In addition, the registrants waived the 180-day comment period for these use deletions and product cancellations. Therefore, this notice opens a 60-day comment period for these ferbam use deletions and product cancellations.

Table 1.—Registrations With Requests for Amendments to Delete Certain Uses from Label
EPA Reg. No. | Product name | Active ingredient | Delete from label
45728-7 | Carbamate WDG Fungicide | Ferbam | Apples, Cherries, Grapes, Pears, Tobacco (plant beds), Trees, Flowers, and Ornamentals (Pine Seedlings and plant beds, Slash and Long Leaf Pines, Nursery Conifer and Seedling Crops, Spruce, Douglas Fir Christmas Trees, Conifers, Asters, Columbine, Begonias, Golden Glow, Cyclamens, Delphiniums, Iris, Hollyhocks, Laurel, Hydrangeas, Phlox, Morning Glory, Ivy, Geraniums, Verbena, Primrose, Zinnias, Snapdragons, Lilacs, Oriental Poppy, Palm Sweet Pea, Azaleas, Cacti and Succulents, Camelia, Carnations, Chrysanthiumums, Roses, Geraniums, Morning Glory, Marigolds, Snapdragons, Scheffleras, Gardenias, Gladiolus, Juniper, Lilies, Orchids, Ornamental Cuttings, Peonies, Poinsettias, Tulips).

Table 2.—Request to Cancel Certain Pesticide Registrations
EPA Reg. No. | Product name | Active ingredient
5481-268 | 76W Ferbam Fungicide | Ferbam
5481-256 | Royal Brand Ferbam Dust | Ferbam
8660-68 | Patterson Green-Up Ferbam Fungicide | Ferbam

Table 3 of this unit includes the names and addresses of record for all registrants of the products in Table 1 and 2 of this unit, in sequence by EPA company number.

Table 3.—Registrants Requesting Amendments to Delete Uses and Cancel Products in Certain Pesticide Registrations
EPA Company No. | Company name and address
5481—Product Cancellations | AMVAC, 4694 MacArthur Court, Suite 1250 Newport Beach, CA 92660
8660—Product Cancellation | SYLORR Plant Corp. P.O. Box 142642 St. Louis, MO 63114
45728—Use Deletions | Taminco, Inc., c/o VJP Consulting, Inc. 21320 Sweet Clover Place Ashburn, VA 20147

III. What is the Agency's Authority for Taking this Action?

Section 6(f)(1) of FIFRA provides that a registrant of a pesticide product may at any time request that any of its pesticide registrations be cancelled or amended to terminate one or more uses. The Act further provides that, before acting on the request, EPA must publish a notice of receipt of any such request in the Federal Register. Thereafter, following the public comment period, the Administrator may approve such a request.

IV. Procedures for Withdrawal of Request

Registrants who choose to withdraw a request for use deletion must submit the withdrawal in writing to Amaris Johnson using the instructions in Unit I.C. The Agency will consider written withdrawal requests postmarked no later than January 11, 2005.

V. Provisions for Disposition of Existing Stocks

For purposes of this cancellation order, the term “existing stocks” is defined, pursuant to EPA's existing stocks policy (56 FR 29362, June 26, 1991), as those stocks of registered pesticide products which are currently in the United States and which were packaged, labeled, and released for shipment prior to the effective date of the cancellation action. The Agency has authorized the registrants to sell or distribute product under the previously approved labeling for a period of 12 months after approval of the revision, unless other restrictions have been imposed.

List of Subjects

Environmental protection, Pesticides and pests.

Dated: October 26, 2004.
Debra Edwards,
Director, Special Review and Reregistration Division, Office of Pesticide Program.

[FR Doc. 04-25205 Filed 11-10-04; 8:45 am]

BILLING CODE 6560-50-S